FEDERAL COMMUNICATIONS COMMISSION

47 CFR Parts 51, 53, and 64

[CC Docket Nos. 95-20, 98-10; FCC 13-69]

Data Practices, Computer III Further Remand: BOC Provision of Enhanced Services

AGENCY: Federal Communications Commission.

ACTION: Further notice of proposed rulemaking.

SUMMARY: In this Further Notice of Proposed Rulemaking (Further Notice), the Federal Communications Commission (Commission) seeks comment on how to streamline or eliminate legacy regulations contained in the Computer Inquiry proceedings and that are applicable to the Bell Operating Companies (BOCs). The FNPRM: Seeks data on the changing market for narrowband enhanced services, in particular, the extent to which enhanced service providers (ESPs) continue to need access to the BOCs' basic network transmission services offered through comparably efficient interconnection (CEI) and open network architecture (ONA) services; proposes eliminating CEI requirements and seeks comment on whether to retain only limited ONA inputs that ESPs require in areas where there are no competitive alternatives; and seeks comment on the need for the continuing application of the All-Carrier Rule that requires non-BOC incumbent local exchange carriers (LECs) to offer non-discriminatory access to basic network services for unaffiliated ESPs.

DATES: Comments are due July 31, 2013, and reply comments are due August 30, 2013. Written comments on the paperwork Reduction Act proposed or modified information collection requirements must be submitted by the public, Office of Management and Budget (OMB), and other interested parties on or before [date].

ADDRESSES: Interested parties may submit comments, identified by CC Docket No. 00-175, by any of the following methods:

• Federal eRulemaking Portal: http://www.regulations.gov. Follow the instructions for submitting comments.

• Federal Communications Commission's Web site: http://fjallfoss.fcc.gov/ecfs2/. Follow the instructions for submitting comments.

• People with Disabilities: Contact the FCC to request reasonable accommodations (accessible format documents, sign language interpreters, CART, etc.) by email: FCC504@fcc.gov or phone: (202) 418-0530 or TTY: (202) 418-0432.

For detailed instructions for submitting comments and additional information on the rulemaking process, see the SUPPLEMENTARY INFORMATION section of this document.

FOR FURTHER INFORMATION CONTACT: Jodie May, WCB, CPD, (202) 418-1580 or Jodie.May@fcc.gov. For additional information concerning the Paperwork Reduction Act information collection requirements contained in this document, send an email to PRA@fcc.gov or contact Judith Boley Herman at 202-418-0214.

SUPPLEMENTARY INFORMATION: This is a summary of the Commission's Further Notice in CC Docket Nos. 95-20, 98-10; FCC 13-69, released on May 17, 2013. The full text of this document, which is part of the Commission's Memorandum Opinion and Order and Report and Order and Further Notice of Proposed Rulemaking and Second Further Notice of Proposed Rulemaking, is available for public inspection during regular business hours in the FCC Reference Center, Room CY-A257, 445 12th Street SW., Washington, DC 20554, and may also be purchased from the Commission's copy contractor, BCPI, Inc., Portals II, 445 12th Street SW., Room CY-B402, Washington, DC 20554. Customers may contact BCPI, Inc. via their Web site, http://www.bcpi.com, or call 1-800-378-3160. This document is available in alternative formats (computer diskette, large print, audio record, and Braille). Persons with disabilities who need documents in these formats may contact the FCC by email: FCC504@fcc.gov or phone: 202-418-0530 or TTY: 202-418-0432.

Pursuant to §§ 1.415 and 1.419 of the Commission's rules, 47 CFR 1.415, 1.419, interested parties may file comments and reply comments on or before the dates indicated on the first page of this document. All pleadings are to reference CC Docket Nos. 95-20, 98-10; FCC 13-69. Comments may be filed using the Commission's Electronic Comment Filing System (ECFS). See Electronic Filing of Documents in Rulemaking Proceedings, 63 FR 24121 (1998).

• Electronic Filers: Comments may be filed electronically using the Internet by accessing the ECFS: http://fjallfoss.fcc.gov/ecfs2/.

• Paper Filers: Parties who choose to file by paper must file an original and one copy of each filing. If more than one docket or rulemaking number appears in the caption of this proceeding, filers must submit two additional copies for each additional docket or rulemaking number.

• Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th Street SW., Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington DC 20554.

• People with Disabilities: To request materials in accessible formats for people with disabilities (braille, large print, electronic files, audio format), send an email to fcc504@fcc.gov or call the Consumer & Governmental Affairs Bureau at 202-418-0530 (voice), 202-418-0432 (tty).

Synopsis of Further Notice

I. Background

1. In its Computer II proceedings, the Commission required AT&T (and subsequently the BOCs) to offer enhanced services through structurally separate subsidiaries. Amendment of § 64.702 of the Commission's rules and regulations (Computer II Final Decision), 77 FCC 2d 384 (1980), recon., 84 FCC 2d 50 (1980), further recon., 88 FCC 2d 512 (1981), affirmed sub nom. Computer and Communications Industry Ass'n v. FCC, 693 F.2d 198 (DC Cir. 1982), cert. denied, 461 U.S. 938 (1983). In the subsequent Computer III proceedings, the Commission determined that the benefits of structural separation were outweighed by the costs and that non-structural safeguards could protect competing ESPs from improper cost allocation and discrimination by the BOCs while avoiding the inefficiencies of structural separation. The Commission adopted CEI and ONA as non-structural safeguards that require the BOCs to offer nondiscriminatory interconnection to basic transmission services that competitors purchase to provide enhanced services, primarily to end users that use narrowband telephone technology. Amendment of § 64.702 of the Commission's rules and regulations, CC Docket No. 85-229, Phase I, 104 FCC 2d 958 (1986) (subsequent history omitted). The Commission has identified examples of narrowband enhanced services as voice mail, store and forward services, fax, data processing, alarm monitoring, and dial-up gateways to on-line databases. BOCs must comply with CEI and ONA requirements in order to offer enhanced services on an “integrated” basis instead of through a structurally separate affiliate as required by § 64.702 of the Commission's rules.

2. The BOCs' CEI plans detail how they provide unaffiliated ESPs with interconnection to basic transmission services on the same terms and conditions that the BOCs use for their own enhanced services offerings. The BOCs' ONA plans, based on the architecture of the BOCs' networks as they existed in the late 1980s, offer ESPs unbundled, tariffed access to basic transmission services regardless of whether the BOCs' affiliated enhanced services offerings use the same components.

3. The Commission has had in place a long-standing examination of the substantive Computer III structure and what safeguards are appropriate to ensure the continued competitiveness of the enhanced services market. In 1998, the Commission sought comment on what safeguards for BOC provision of enhanced services made sense in light of technological, market, and legal conditions, particularly the passage of the market opening provisions in the Telecommunications Act of 1996 (1996 Act), such as the section 251 unbundling requirements, 47 U.S.C. 251. 63 FR 9749-01 (Feb. 26, 1998); 66 FR 15064-01 (Mar. 15, 2001).

4. Since 1998, the Commission has modified or eliminated many of the Computer III non-structural separation requirements. In 1999, it streamlined the CEI requirements. 64 FR 14141-01 (Mar. 24, 1999). In 2005, the Commission granted the BOCs significant relief from Computer III requirements for wireline broadband Internet access services. Appropriate Framework for Broadband Access to the Internet over Wireline Facilities, CC Docket No. 02-33, Report and Order and Notice of Proposed Rulemaking, 20 FCC Rcd 14853, 14875-76, para. 41 (2005) (WBIAS Order), aff'd, Time Warner Telecom v. FCC, 507 F.3d 205 (3rd Cir. 2007). The Commission has also granted forbearance from application of Computer Inquiry rules to the extent that the carriers offer other broadband services. See, e.g., Petitions of the Verizon Telephone Companies for Forbearance Pursuant to 47 U.S.C. 160(c) in the Boston, New York, Philadelphia, Pittsburgh, Providence, and Virginia Beach Metropolitan Statistical Areas, WC Docket No. 06-172, Memorandum Opinion and Order, 22 FCC Rcd 21293, 21318, para. 45 (2007). In light of these changes, the Computer III requirements currently apply only to the provision of enhanced services using narrowband telephone technology.

II. Discussion

5. In order to determine how we may streamline or eliminate the remaining legacy Computer III obligations, we seek comment on the continued viability of the substantive CEI and ONA narrowband requirements. Recognizing that the enhanced services provider industry may continue to use the BOCs' narrowband networks to serve customers, we seek comment on how we might simplify and modernize efficient access to service elements that competitors still need while at the same time eliminating services that are no longer necessary. Below, we propose to eliminate CEI requirements and seek comment on a specific streamlined process we might adopt to review BOC requests to eliminate or modify their ONA offerings. We expect that this Further Notice will provide data that may allow us to grant some relief from these legacy regulations in an efficient and comprehensive manner.

6. The Commission made clear when it adopted the Computer III requirements that a “major goal of ONA is to increase opportunities for ESPs to use the BOCs' regulated networks in highly efficient ways, enabling ESPs to expand their markets for their present services and develop new offerings as well, all to the benefit of consumers.” Computer III Remand Proceeding, CC Docket No. 90-368, 5 FCC Rcd 7719, 7720, paras. 7, 11(1990). The Commission intended the ONA framework to evolve. It did not prescribe a specific network design for ONA services and stated that the BOCs, with input from the enhanced services industry, should implement ONA in a way that matched the capabilities of their networks, “both current and future, with needs of the ESPs.” Filing and Review of Open Network Architecture Plans, CC Docket No. 88-2, Phase I, Memorandum Opinion and Order, 4 FCC Rcd 1, 11, para. 3 (1988). The Commission intended originally that CEI plans would be an interim measure until the BOCs fully implemented ONA. Referring to CEI as a “first phase,” the Commission intended CEI to provide ESPs with interconnection to the BOCs' networks that was substantially equivalent to the interconnection the BOCs provided for their own enhanced services until the BOCs fully unbundled their networks to ESPs through ONA. Although the Commission eliminated formal approval of CEI plans, we have continued to require the BOCs to maintain their CEI plans and post them on the Internet.

7. We propose to eliminate the requirement that BOCs maintain and post their CEI plans on the Internet. CEI plans were always intended to be an interim measure, designed to bridge the gap between the Commission's decision to lift structural separation in Computer III and the implementation of ONA. In light of the changing market for narrowband enhanced services, we expect that CEI plans are not necessary to protect against access discrimination. We seek comment on this proposal. ONA has provided ESPs a greater level of protection against access discrimination than CEI. Under ONA, not only must the BOCs offer network services to competing ESPs in compliance with the nine CEI “equal access” parameters, but they must also unbundle and tariff key network service elements beyond those they use to provide their own enhanced services offerings. To the extent that we find it necessary to retain any limited ONA requirements, we expect that ESPs will have adequate access to the BOCs' legacy network through those arrangements.

8. We seek current information on whether ONA offerings continue to be an effective means of providing competitive ESPs with access to unbundled network services they need to structure efficient service offerings. To the extent that the requirements or offerings are ineffective, we request that commenters cite to specific instances to support their claims. The Commission is now examining the technological transition of legacy networks and protocols toward modern networks and services in several contexts. See, e.g., Pleading Cycle Established for AT&T and NTCA Petition, GN Docket No. 12-353, Public Notice, 27 FCC Rcd 15766 (rel. Dec. 14, 2012) (seeking comment on AT&T and National Telecommunications Cooperative Association petitions to open proceedings on the transition from TDM to IP networks); FCC Chairman Julius Genachowski Announces Formation of “Technology Transitions Policy Task Force,” News Release (Dec. 10, 2012); Technology Transitions Policy Task Force Seeks Comment on Potential Trials, GN Docket No. 13-5, Public Notice, DA 13-1016 (rel. May 10, 2013), available at http://hraunfoss.fcc.gov/edocs_public/attachmatch/DA-13-1016A1.pdf. ONA requirements are legacy regulations aimed at giving competitors wholesale access to narrowband technologies for the provision of enhanced services, and we are therefore interested in whether competitors are using narrowband ONA offerings to offer new services or whether they are transitioning away from narrowband products. We seek comment on that question. We also ask the BOCs to provide information on specific narrowband ONA offerings that they currently provision for unaffiliated ESPs. In particular, we seek information about specific service inputs that ESPs may still require from the BOCs to serve narrowband customers and on whether we should eliminate all other services.

9. We seek comment on the extent to which the BOCs themselves continue to provide narrowband enhanced services and whether there are sufficient alternatives such that the BOCs are prevented, at least in some areas, from engaging in harmful discrimination against unaffiliated ESPs. We seek data on the alternatives available and the specific markets in which such alternatives are available. Do ESPs still rely primarily on narrowband ONA services, or do they use other means to obtain services? We are interested in whether enhanced service competitors use a combination of inputs from different providers.

10. The Commission originally required the BOCs to maintain a sufficient level of uniformity among their ONA services, in part so that ESPs could market national offerings. Is this requirement still necessary today for narrowband offerings or do ESPs seek more tailored arrangements based on their customer base? Commenters should identify what other network platforms, such as cable or broadband, offer viable options for re-structuring existing enhanced services that customers still use and whether ESPs would have access to those options in the areas in which their customers are located, including in rural areas. If alternatives are available, do they enable functionalities that ESPs require for specific narrowband products, such as alarm monitoring services or voice mail? Commenters should explain whether ESPs use ONA offerings for any public safety related offerings. In addition, we seek comment on whether ESPs obtain from the BOCs unbundled network elements under section 251 of the Act, 47 U.S.C. 251, if the providers are also telecommunications carriers or if they can obtain basic services from competitive telecommunications providers.

11. The ONA framework consists of multiple requirements in addition to the tariffing of basic service offerings. These include the ONA amendment process under which a BOC that seeks to offer an enhanced service that uses a new basic service element, or otherwise uses different configurations of underlying basic services than those in its approved ONA plan, must amend its ONA plan at least 90 days before it offers the new enhanced service. In addition, an ESP can request a new ONA basic service from the BOC and must receive a response from the BOC within 120 days regarding whether the BOC will provide the service. The BOC must evaluate and justify its response using specific factors, including market area demand, utility to ESPs as perceived by the providers themselves, and cost and technical feasibility. We are interested in obtaining information about how often the BOCs received a request under the 120 day process, including the date of the most recent request, and the outcome of the request. The BOCs should also address the last time they amended their ONA plans. ESPs should address whether the 120 day process continues to be of value and whether they contemplate using it in the future. We seek comment on the extent to which the narrowband ONA obligations may increase the BOCs' costs of providing enhanced services. Commenters should identify costs with specificity wherever possible. We also ask commenters to address whether there are continuing benefits associated with the obligations that justify the costs.

12. At the beginning of the ONA implementation process, the Commission found that it would not be reasonable for BOCs to withdraw any services listed in their approved ONA plans and that it would not look favorably on requests for withdrawal. It did, however, outline a process for BOCs to withdraw ONA services. It stated that, once an ONA service element was federally tariffed, the BOC must request and receive advance approval in writing before filing tariff revisions to discontinue offering of that service. Filing and Review of Open Network Architecture Plans, CC Docket No. 88-2, Phase I, Memorandum Opinion and Order, 6 FCC Rcd 7646, 7652-53, para. 10 (1991). The Commission, acting through the Wireline Competition Bureau, has granted such approvals in a few limited circumstances, each involving an extended proceeding. In those proceedings, the Bureau evaluated the reasonableness of the withdrawal request to see if circumstances justified the elimination of specific ONA services. It reviewed criteria including whether the BOC had existing customers for the service and whether suitable alternative services existed. It also accepted BOC proposals that existing customers should have an opportunity to continue to purchase the withdrawn ONA service element on a grandfathered basis. See BellSouth Open Network Architecture Plan Amendment, CC Docket No. 88-2, Memorandum Opinion and Order, 18 FCC Rcd 15844, 15847-48, para. 5 (Wireline Comp. Bur. 2003); Qwest Petition for Permission to Withdraw ONA Services, WC Docket No. 02-355, Memorandum Opinion and Order, 19 FCC Rcd 7164, 7167, para. 6 (Wireline Comp. Bur. 2004). We seek comment on what type of simplified process might now be feasible for BOCs to use to withdraw ONA service elements that they assert are no longer useful or for which there are alternative offerings. Should we use the same criteria the Bureau relied upon in reviewing past requests? We seek comment on how precisely a BOC should define the service area in which it requests to eliminate services. By requiring BOCs to demonstrate with specificity which ONA services they seek to retire and what alternatives are available, we can move toward an orderly and efficient process for eliminating services that may no longer be necessary.

13. We seek comment on what type of process would be most efficient for us to review requests to reduce or eliminate ONA service offerings that are included in the BOCs' ONA plans and tariffs. Because the elimination of basic narrowband service elements currently available under the ONA plans could impact ESPs that have limited alternatives for these services, we seek comment on adopting a discontinuance process that allows for comments, a notice period, and affirmative action by the Commission. This would allow more time for ESPs to transition to other arrangements whether from the BOCs, themselves, or alternative providers. We seek comment on adopting a process that is similar to the standard streamlined process for service discontinuance applications under section 214 of the Act, 47 U.S.C. 214. Under the section 214 process, a dominant carrier such as a BOC that seeks to discontinue, reduce, or impair service must notify affected customers and file an application with the Commission. The application is automatically granted on the 60th day after its filing unless the Commission has notified the applicant that the grant will not automatically be effective. 47 CFR 63.71. Specifically, we seek comment on the following proposal:

A BOC that seeks to withdraw and discontinue narrowband Open Network Architecture (ONA)-related services shall be subject to the following procedures:

The BOC shall notify all affected customers of the planned withdrawal and discontinuance in writing. The notification shall include the name and address of the carrier, date of planned service withdrawal and discontinuance, points of geographic areas of service affected, and a brief description of the type of service affected. The notification shall also include a statement to customers as follows:

The FCC will normally authorize this proposed withdrawal and discontinuance of service unless it is shown that customers would be unable to receive service or a reasonable substitute from another carrier or that the public convenience and necessity is otherwise adversely affected. If you wish to object, file your comments as soon as possible, but no later than 30 days after the Commission releases public notice of the proposed withdrawal or discontinuance. Comments should include specific information about the impact of this proposed withdrawal and discontinuance on you or your company, including any inability to acquire reasonable substitute service. Comments must be filed electronically using the Internet through the Commission's Electronic Comment Filing System (ECFS) and reference the proceeding number on the public notice. ECFS is accessible at http://apps.fcc.gov/ecfs/.

The BOC shall file with this Commission, on or after the date on which it has given notice to all affected customers, an application which shall contain the name and address of the carrier, date of planned service withdrawal and discontinuance, points of geographic areas of service affected, brief description of the type of service affected, brief description of the dates and methods of notice to all affected customers, or a statement that no customers are currently using the service, and any other supplemental information the Commission may require.

The application to withdraw and discontinue ONA services shall be automatically granted on the 60th day after its filing with the Commission without any notification to the applicant unless the Commission has notified the applicant that the grant will not be automatically effective. For purposes of this section, an application will be deemed filed on the date the Commission releases public notice of the filing.

14. Such a process would set a threshold showing for a BOC to withdraw an ONA service and allow ESPs an orderly notice and comment process to object to the withdrawal. We seek comment on whether we should permit BOCs to include multiple services in a single notice for a particular geographic area. The process would also allow affected ESPs the opportunity to address whether they would be unable to serve customers without access to the service.

15. Because we propose to eliminate CEI and seek comment on streamlining or eliminating ONA requirements, it is important for ESPs to have sufficient detail to understand the impact of any possible reduction in availability. BOCs should comment on what types of transition arrangements might be possible to ensure that ESPs can still serve their narrowband customers. We seek comment on whether BOCs would continue to make CEI and ONA service offerings and network functionalities available through alternative means, including through the use of other tariffed services. Would they be available through a transition to unbundled network elements or resold services? We seek information from the BOCs on whether grandfathering arrangements would be available based on existing prices, terms, and conditions. Should we require BOCs to grandfather existing customers for a period of time (e.g., three years), and if so, what would be an appropriate time limit?

16. Non-BOC facilities-based common carriers must provide the basic transmission services underlying their enhanced services on a nondiscriminatory basis pursuant to tariffs under the All-Carrier Rule. Computer II Final Decision, 77 FCC 2d at 474-75, para. 231. The rule requires common carriers to provide basic transmission services at the same prices, terms, and conditions to all ESPs, including themselves. We seek comment on the extent to which ESPs continue to rely on these tariffed transmission services to provide narrowband services to customers and whether there are alternative providers available. In particular, we seek comment on whether we should retain network access requirements under the All-Carrier Rule beyond the time that CEI and ONA may sunset. Would ESPs, including those offering certain services such as alarm monitoring, continue to require access to incumbent LEC networks in non-BOC territory because there are more limited alternatives in those areas, or do cable, wireless, and VoIP platforms offer ESPs viable alternatives? We also seek comment on whether the incumbent carriers themselves continue to provide narrowband enhanced services such that is important to retain the All-Carrier Rule to prevent discriminatory conduct against unaffiliated ESPs.

Paperwork Reduction Act

17. This Further Notice seeks comment on a potential new or revised information collection requirements. If the Commission adopts any new or revised information collection requirement, the Commission will publish a separate notice in the Federal Register inviting the public to comment on the requirement, as required by the Paperwork Reduction Act of 1995, Public Law 104-13 (44 U.S.C. 3501-3520). In addition, pursuant to the Small Business Paperwork Relief Act of 2002, Public Law 107-198, see 44 U.S.C. 3506(c)(4), the Commission seeks specific comment on how it might “further reduce the information collection burden for small business concerns with fewer than 25 employees.”

Initial Regulatory Flexibility Analysis

18. The Regulatory Flexibility Act of 1980, as amended (RFA), requires that an initial regulatory flexibility analysis be prepared for notice-and-comment rulemaking proceedings, unless the agency certifies that “the rule will not, if promulgated, have a significant economic impact on a substantial number of small entities.” 5 U.S.C. 601(6). The RFA generally defines the term “small entity” as having the same meaning as the terms “small business,” “small organization,” and “small governmental jurisdiction.” 5 U.S.C. 601(6). In addition, the term “small business” has the same meaning as the term “small business concern” under the Small Business Act. 5 U.S.C. 601(3). A “small business concern” is one which: (1) Is independently owned and operated; (2) is not dominant in its field of operation; and (3) satisfies any additional criteria established by the Small Business Administration (SBA). SBA defines small telecommunications entities as those with 1,500 or fewer employees. 15 U.S.C. 632. This proceeding pertains to the BOCs, which, because they would not be deemed a “small business concern” under the Small Business Act and have more than 1,500 employees, do not qualify as small entities under the RFA. Therefore, we certify that the proposals in this Further Notice, if adopted, will not have a significant economic impact on a substantial number of small entities.

19. The Commission will send a copy of the Notice, including a copy of this Initial Regulatory Flexibility Certification, to the Chief Counsel for Advocacy of the SBA. This initial certification will also be published in the Federal Register.

Ex Parte Presentations

20. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b). In proceedings governed by § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Ordering Clauses

21. It is ordered that, pursuant to §§ 1, 2, 4, 11, 201-205, 251, 272, 274-276, and 303(r) of the Communications Act of 1934, as amended, 47 U.S.C. 151, 152, 154, 161, 201-205, 251, 272, 274-276, and 303(r) this Further Notice of Proposed Rulemaking in CC Docket Nos. 95-20 and 98-10 is adopted.

22. It is further ordered that the Commission's Consumer and Governmental Affairs Bureau, Reference Information Center, shall send a copy of this Further Notice of Proposed Rulemaking in CC Docket Nos. 95-20 and 98-10, including the Initial Regulatory Flexibility Certification, to the Chief Counsel for Advocacy of the Small Business Administration.

Federal Communications Commission.
Sheryl Todd,
Deputy Secretary.

[FR Doc. 2013-15643 Filed 6-28-13; 8:45 am]

BILLING CODE 6712-01-P